DEPARTMENT OF COMMERCE

National Institute of Standards and Technology

Information Collection Activities; Submission to the Office of Management and Budget (OMB) for Review and Approval; Comment Request; Small- and Medium-Sized Business Complex Event COVID-19 Survey (Wave 3)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 19, 2021 (86 FR 5140) during a 60-day comment period. This notice allows for an additional 30 days for public comments.

Agency: National Institute of Standards and Technology (NIST).

Title: Small and Medium Sized Business Complex Event COVID-19 Survey (Wave 3).

OMB Control Number: 0693-XXXX.

Form Number(s): None.

Type of Request: Regular.

Number of Respondents: 1,800.

Average Hours per Response: 15 minutes to 45 minutes.

Estimated Time per Response: 15 minutes per structured survey (n=1,800); additional 45 minutes for the semi-structured survey add-on (n=300).

Burden Hours: 675 hours.

Estimated Total Annual Burden Hours: 15 min. × 1,800 = 27,000; 45 min. × 300 = 13,500; Total = 40,500 min. = 675 hours.

Needs and Uses: In May 2020, researchers at NIST launched a longitudinal effort to assess Complex Event Resilience of Small- and Medium-sized Enterprises (SMEs) during the COVID-19 pandemic. This effort was approved by the NIST Office of the Associate Director for Laboratory Programs, providing time for this work to be conducted.

As COVID-19 conditions persist, populations around the U.S. and the world have and will continue to experience heat waves, floods, hurricanes, fire, and drought during the period of virus transmission and into the period of recovery (e.g., Phillips et al., 2020). There were 22 $1 billion extreme weather events in 2020. SMEs in areas vulnerable to natural hazards and disasters are particularly noteworthy in the context of COVID-19.

The goal of this longitudinal effort is to inform NIST research and recommendations as well as provide Federal partners (e.g., FEMA, NOAA, and SBA) with insights into how SMEs think about disaster readiness during the pandemic, both the transmission and recovery periods. The first and second waves of data collection took place during summer 2020 and fall 2020/winter 2021, respectively and were approved under the NIST Generic Clearance #0693-0078.

A third wave of data collection is proposed in order to address the research goals as SMEs begin to recover from the pandemic. This effort addresses the gap in research on the experiences of SMEs dealing with complex events generally and those that arise during a pandemic, specifically. This longitudinal study accounts for SME vulnerabilities, which may further amplify the impacts of a singular or complex event.

Proposed respondents to this data collection have already registered their interest in participation in the data collection (during Wave 2). The proposed collection is critical to understand the resilience of SMEs, which in turn allows NIST to refine recommendations relevant to SMEs. This is critical as SMEs and the communities in which they exist plan for future events while continuing to recover from COVID-19 impacts.

Affected Public: The private sector.

Frequency: Once.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-11930 Filed 6-7-21; 8:45 am]

BILLING CODE 3510-13-P